DEPARTMENT OF TRANSPORTATION

Federal Aviation Administration

14 CFR Part 71

[Docket No. FAA-2022-0901; Airspace Docket No. 21-ANE-5]

RIN 2120-AA66

Proposed Amendment and Revocation of VOR Federal Airways; Northeast United States

AGENCY: Federal Aviation Administration (FAA), DOT.

ACTION: Notice of proposed rulemaking (NPRM).

SUMMARY: This action proposes to amend VHF Omnidirectional Range (VOR) Federal airways V-1, V-16, and V-290, and remove airways V-93 and V-229. This action is necessary to support the FAA's VOR Minimum Operational Network (MON) program.

DATES: Comments must be received on or before September 6, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-0901; Airspace Docket No. 21-ANE-5 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0901; Airspace Docket No. 21-ANE-5) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0901; Airspace Docket No. 21-ANE-5.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to amend VOR Federal airways V-1, V-16, and V-290, and remove airways V-93 and V-229. This action is necessary to support the FAA's VOR Minimum Operational Network (MON) program. The proposed route changes are described below.

V-1: V-1 extends from Craig, FL, to Boston, MA. The FAA proposes to remove the airway segments from Cofield, NC, to Boston, MA. As a result, V-1 would extend from Craig, FL, to Kinston, NC. The wording “The portions within R-5002A, R-5002C and R-5002D are excluded during their times of use. The airspace within R-4006 is excluded.” would be removed from the route description because the amended route would no longer pass by those areas. United States Area Navigation (RNAV) route T-303 will be published as an overlay of V-1.

V-16: V-16 consists of two parts: From Los Angeles, CA, to Holly Springs, MS; and From Shelbyville, TN, to Boston, MA. The FAA proposes to amend the second part of the route by removing the segments from the intersection of the Richmond, VA, 039° and the Patuxent, MD, 228° radials, to Boston, MA. As amended, the second part of V-16 would extend from Shelbyville, TN, to Richmond, VA. The first part of the route, from Los Angeles, CA, to Holly Springs, MS, would remain unchanged as currently charted. The wording “The airspace within Restricted Areas R-5002A, R-5002C, and R-5002D is excluded. The airspace within Restricted Areas R-4005 and R-4006 is excluded.” would be removed from the route description because the amended route would no longer pass by those areas. RNAV route T-224 would be extended as an overlay of V-16.

V-93: V-93 consists of two parts: From Patuxent River, MD, to the intersection of the Wilkes-Barre, PA 037° and the Sparta, NJ 300° radials; and From the intersection of the Sparta 018° and the Kingston, NY 270° radials, to Chester, MA. The FAA proposes to remove V-93 in its entirety. RNAV route T-295 currently overlays part of V-93, and T-324 is being extended as a partial overlay and replacement for V-93.

V-229: V-229 extends from Patuxent, MD, to Hartford, CT. The FAA proposes to remove V-229 in its entirety. RNAV route T-315 is being extended as an overlay of V-229.

V-290: V-290 consists of two parts: From Rainelle, WV, to Flat Rock, VA; and From Tar River, NC, to the intersection of the Tar River 109° and the New Bern, NC 042° radials. The FAA proposes to remove the segments from Rainelle, WV, to Flat Rock, VA, due to the planned decommissioning of the Rainelle, WV, (RNL) VOR. As amended, V-290 would extend from Tar River, NC, to the intersection of the Tar River 109° radial and New Bern, NC 042° radial. RNAV route T-360 is being extended as a partial overlay and replacement for V-290.

Domestic VOR Federal airways are published in paragraph 6010(a) of FAA Order JO 7400.11F, dated August 10, 2021, and effective September 15, 2021, which is incorporated by reference in 14 CFR 71.1. The VOR Federal airways listed in this document would be subsequently published and removed from FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-1 [Amended]

From Craig, FL, via INT Craig 020° and Charleston, SC, 214° radials; Charleston; Grand Strand, SC; INT Grand Strand 031° and Kinston, NC, 214° radials; to Kinston. Excluding the airspace below 2,700 feet MSL outside the United States between STARY INT and Charleston, SC.

* * * * *

V-16 [Amended]

From Los Angeles, CA; Paradise, CA; Palm Springs, CA; Blythe, CA; Buckeye, AZ; Phoenix, AZ; INT Phoenix 155° and Stanfield, AZ, 105° radials; Tucson, AZ; San Simon, AZ; INT San Simon 119° and Columbus, NM, 277° radials; Columbus; El Paso, TX; Salt Flat, TX; Wink, TX; INT Wink 066° and Big Spring, TX, 260° radials; Big Spring; Abilene, TX; Bowie, TX; Bonham, TX; Paris, TX; Texarkana, AR; Pine Bluff, AR; Marvell, AR; to Holly Springs, MS. From Shelbyville, TN; Hinch Mountain, TN; Volunteer, TN; Holston Mountain, TN; Pulaski, VA; Roanoke, VA; Lynchburg, VA; Flat Rock, VA; to Richmond, VA. The airspace within Mexico and the airspace below 2,000 feet MSL outside the United States is excluded.

* * * * *

V-93 [Removed]

* * * * *

V-229 [Removed]

* * * * *

V-290 [Amended]

From Tar River, NC; to INT Tar River 109° radial and New Bern, NC, 042° radial.

* * * * *

Issued in Washington, DC, on July 18, 2022.
Scott M. Rosenbloom,
Manager, Airspace Rules and Regulations.

[FR Doc. 2022-15618 Filed 7-21-22; 8:45 am]

BILLING CODE 4910-13-P